COUNCIL ON ENVIRONMENTAL QUALITY

Economic and Environmental Principles and Guidelines for Water and Related Land Resources Implementation Studies; Final Interagency Guidelines

AGENCY: Council on Environmental Quality.

ACTION: Notice of availability of final interagency Economic and Environmental Principles and Guidelines for Water and Related Land Resources Implementation Studies.

SUMMARY: Section 2031 of the Water Resources Development Act of 2007 (Water Resources Development Act), Public Law 110-114, directed the Secretary of the Army to revise the “Economic and Environmental Principles and Guidelines for Water and Related Land Resources Implementation Studies” (Principles and Guidelines), dated March 10, 1983, consistent with several considerations enumerated in the Water Resources Development Act. The revised Principles and Guidelines, now referenced as the Principles, Requirements and Guidelines (PR&G), consist of three key components: (1) The Principles and Requirements (formerly called Principles and Standards), setting out broad policy and principles that guide investments; (2) the Interagency Guidelines, providing guidance to Federal agencies for determining the applicability of the Principles and Guidelines and for developing agency specific implementing procedures for formulating, evaluating, and comparing water resources projects, programs, activities and related actions; and (3) the Agency Specific Procedures, outlining agency-specific procedures for incorporating the Principles and Requirements into agency missions and programs.

This notice informs the public that the Interagency Guidelines, the second key component of the modernized PR&G, are finalized and available at www.whitehouse.gov/administration/eop/ceq/initiatives/PandG. The draft Interagency Guidelines were published in the Federal Register with a request for comments on March 27, 2013. Subsequent to public review and comment period, the final version of the Interagency Guidelines was developed through a collaborative interagency process that promoted the open exchange of information and perspectives. The process has engaged the public through formal public review and workshops. The updated and modernized PR&G will improve Federal government decision making related to investment in water resource projects and, thus, improve how our country plans for infrastructure projects.

DATES: Effective June 15, 2015.

ADDRESSES: The Interagency Guidelines are available at www.whitehouse.gov/administration/eop/ceq/initiatives/PandG.

FOR FURTHER INFORMATION CONTACT: Alexis Segal, Council on Environmental Quality, at 202-395-5750.

SUPPLEMENTARY INFORMATION: Section 2031 of the Water Resources Development Act of 2007 (Pub. L. 110-114) directed the Secretary of the Army to revise the “Economic and Environmental Principles and Guidelines for Water and Related Land Resources Implementation Studies,” dated March 10, 1983, consistent with several considerations enumerated in the Water Resources Development Act. The revised Principles and Requirements will provide guidance for agencies to implement the Principles and Guidelines.

Additional information on the revision process is available a http://www.whitehouse.gov/administration/eop/ceq/initiatives/PandG.

Authority: Section 2031 of the Water Resources Development Act of 2007, Pub. L. 110-114, 121 Stat. 1041.

Dated: December 18, 2014.
Brenda Mallory,
General Counsel, Council on Environmental Quality.

[FR Doc. 2014-30170 Filed 12-23-14; 8:45 am]

BILLING CODE 3225-F5-P